DEPARTMENT OF HEALTH AND HUMAN SERVICES

National Institutes of Health

Eunice Kennedy Shrive National Institute of Child Health and Human Development; Notice of Committee Establishment

Pursuant to the Federal Advisory Committee Act, as amended (5 U.S.C. App.), the Director, National Institutes of Health (NIH), announces the establishment of the Task Force on Research Specific to Pregnant Women and Lactating Women (Task Force) as required by section 2041 of the 21st Century Cures Act, Public Law 114-255.

The Task Force will provide advice and guidance to the Secretary, Department of Health and Human Services (Secretary), regarding Federal activities related to identifying and addressing gaps in knowledge and research regarding safe and effective therapies for pregnant women and lactating women, including the development of such therapies and the collaboration on and coordination of such activities. The Task Force will, not later than 18 months after the establishment, prepare and submit a report to the Secretary, the Committee on Health, Education, Labor and Pensions of the Senate, and the Committee on Energy and Commerce of the House of Representatives.

It is determined that the Task Force is in the public interest in connection with the performance of duties imposed on the NIH by statute, and that these duties can best be performed through the advice and counsel of this group.

Inquiries may be directed to Jennifer Spaeth, Director, Office of Federal Advisory Committee Policy, Office of the Director, National Institutes of Health, 6701 Democracy Boulevard, Suite 1000, Bethesda, Maryland 20892 (Mail code 4875), Telephone (301) 496-2123, or spaethj@od.nih.gov.

Dated: March 15, 2017.
Jennifer S. Spaeth,
Director, Office of Federal Advisory Committee Policy.

[FR Doc. 2017-05486 Filed 3-20-17; 8:45 am]

BILLING CODE 4140-01-P